DEPARTMENT OF DEFENSE

Office of the Secretary

Renewal of Department of Defense Federal Advisory Committee; Ocean Research Advisory Panel

AGENCY: Department Of Defense (DoD).

ACTION: Renewal of Federal advisory committee.

SUMMARY: Under the provisions of 10 U.S.C. 7903, the Federal Advisory Committee Act of 1972, (5 U.S.C. Appendix, as amended), the Government in the Sunshine Act of 1976 (5 U.S.C. 552b, as amended), and 41 CFR 102-3.50, the Department of Defense gives notice that it is renewing the charter for the Ocean Research Advisory Panel (hereafter referred to as the Panel).

FOR FURTHER INFORMATION CONTACT: Jim Freeman, Deputy Committee Management Officer for the Department of Defense, 703-601-6128.

SUPPLEMENTARY INFORMATION: The Panel is a non-discretionary Federal advisory committee established to provide independent scientific Advice and recommendations to the National Ocean Research Leadership Council (hereafter referred to as the Council).

The Panel shall, (a) provide advice on policies and procedures to implement the National Oceanographic Partnership Program, (b) provide advice on selection of partnership projects and allocation of funds for partnership projects for implementation under the program, (c) provide advice on matters relating to national oceanographic data requirements, and (d) fulfill any additional responsibilities that the Council considers appropriate.

The Panel under the provisions of 10 U.S.C. 7903, shall consist of no less than 10 and no more than 18 members, representing the National Academy of Sciences, the National Academy of Engineering, the Institute of Medicine, ocean industries, State Governments, academia and others including individuals who are eminent in the fields of marine science, marine policy or related fields including ocean resource management. Panel members appointed by the Secretary of Defense who are not full-time or permanent part-time Federal officers or employees, shall serve as special government employees under the authority of 5 U.S.C. 3109 and shall serve without compensation except for travel and per diem for official Panel related travel.

Panel members, shall be appointed by the Secretary of Defense, and shall serve no more than four years. Their appointments will be renewed on an annual basis by the Secretary of Defense. The Panel membership shall select the Chairperson and Vice-Chairperson of the Panel for renewable one-year terms. In addition, the Secretary of Defense or designated representative may invite other distinguished Government officers to serve as non-voting observers of the Panel, and appoint consultants, with special expertise to assist the Panel on an ad hoc basis.

Non-voting observers and those non-voting experts and consultants appointed by the Secretary of Defense shall not count toward the Panel's total membership.

With DoD approval, the Panel is authorized to establish subcommittees, as necessary and consistent with its mission. These subcommittees or working groups shall operate under the provisions of the Federal Advisory Committee Act of 1972, the Government in the Sunshine Act of 1976 (5 U.S.C 552b, as amended), and other appropriate Federal statutes and regulations.

Such subcommittees or workgroups shall not work independently of the chartered Panel, and shall report all their recommendations and advice to the Panel for full deliberation and discussion. Subcommittees or workgroups have no authority to make decisions on behalf of the chartered Panel nor can they report directly to the Department of Defense or any Federal officers or employees who are not Panel members.

Subcommittee members, who are not Panel members, shall be appointed in the same manner as the Panel members.

The Panel shall meet at the call of the Panel's Designated Federal Officer, in consultation with the Chairperson. The estimated number of Board meetings is three per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Ocean Research Advisory Panel's membership about the Panel's mission and functions. Written statements may be submitted at any time or in response to the stated agenda of planned meeting of the Ocean Research Advisory Panel.

All written statements shall be submitted to the Designated Federal Officer for the Ocean Research Advisory Panel, and this individual will ensure that the written statements are provided to the membership for their consideration. Contact information for the Ocean Research Advisory Panel Designated Federal Officer can be obtained from the GSA's FACA Database— https://www.fido.gov/facadatabase/public.asp.

The Designated Federal Officer, pursuant to 41 CFR 102-3.150, will announce planned meetings of the Ocean Research Advisory Panel. The Designated Federal Officer, at that time, may provide additional guidance on the submission of written statements that are in response to the stated agenda for the planned meeting in question.

Dated: February 23, 2010.
Mitchell S. Bryman,
Alternate OSD Federal Register Liaison Officer, Department of Defense.

[FR Doc. 2010-4130 Filed 2-26-10; 8:45 am]

BILLING CODE 5001-06-P